DEPARTMENT OF LABOR

Office of the Secretary

Colombian Trade Union Training Program; Correction

AGENCY: Bureau of International Labor Affairs, Department of Labor.

ACTION: Correction.

SUMMARY: In notice document 03-16545 beginning on page 39111 in the issue of Tuesday, July 1, 2003, make the following corrections:

1. On page 39111 in the third column, the closing date for receipt of applications is listed as Friday, August 8, 2003. This should be changed to Friday, August 15, 2003.

2. On page 39112 in the third column, replace the last paragraph of Section II.A. with the following paragraph, “Please note that to be eligible, grant applicants classified under the Internal Revenue Code as a 501(c)(4) entity (see 26 U.S.C. 501(c)(4)), may not engage in lobbying activities. According to the Lobbying Disclosure Act of 1995, as amended by 2 U.S.C. 1611, an organization, as described in section 501(c)(4) of the Internal Revenue Code of 1986, that engages in lobbying activities shall not be eligible for the receipt of federal funds constituting an award, grant, or loan.”

3. On page 39112 in the third column, paragraph 2 of Section II.B., add the following sentence, to the end of the paragraph, “The application should include the name, address, telephone and fax numbers, and e-mail address (if applicable) of a key contact person at the applicant's organization in case questions should arise.”

4. On page 39113 in the first column, paragraph 2 of Section II.C., the date “Friday, August 8, 2003” should be changed to “Friday, August 15, 2003.”

5. On page 39113 in the first column, paragraph 2 of Section II.C., the phrase “[Enter Date]” should be changed to “the closing date” (the replacement occurs in two different places in the paragraph).

Signed at Washington, DC, this 22nd day of July 2003.
Lawrence J. Kuss,
Grant Officer.

[FR Doc. 03-19322 Filed 7-29-03; 8:45 am]

BILLING CODE 4510-28-P